DEPARTMENT OF TRANSPORTATION

Federal Aviation Administration

14 CFR Parts 71

[Docket FAA No. FAA-2007-27430; Airspace Docket No. 07-ANM-4]

Establishment of Class E Airspace; Springfield, CO

AGENCY: Federal Aviation Administration (FAA), DOT.

ACTION: Final rule; correction.

SUMMARY: This action corrects a final rule published in the Federal Register October 30, 2007 (72 FR 61300), Airspace Docket No. 07-ANM-4, FAA Docket No. FAA-2007-27430. In that rule, an error was made in the legal description for Springfield, CO. Specifically, the longitude referencing Springfield, Municipal Airport, CO stated “* * * long. 103°37′05″ W.” instead of “* * * long. 102°37′05″ W.” Also added to the legal description is the location of the TOBE VORTAC. This action corrects those errors.

DATES: Effective Date: 0901 UTC, February 14, 2008. The Director of the Federal Register approves this incorporation by reference action under 1 CFR part 51, subject to the annual revision of FAA Order 7400.9 and publication of conforming amendments.

FOR FURTHER INFORMATION CONTACT: Eldon Taylor, Federal Aviation Administration, System Support Group, Western Service Area, 1601 Lind Avenue, SW., Renton, WA 98057; telephone (425) 917-6726.

SUPPLEMENTARY INFORMATION:

History

On October 30, 2007, a final rule for Airspace Docket No. 07-ANM-4, FAA Docket No. FAA-2007-27430 was published in the Federal Register (72 FR 61300), establishing Class E airspace in Springfield, CO. The longitude referencing Springfield Municipal Airport, CO was incorrect in that the longitude stated “* * * long. 103°37′05″ W.” instead of “* * * long. 102°37′05″ W.”. Also added to the legal description is the location of the TOBE VORTAC. This action corrects those errors.

Correction to Final Rule

Accordingly, pursuant to the authority delegated to me, the legal description as published in the Federal Register on October 30, 2007 (72 FR 61300), Airspace Docket No. 07-ANM-4, FAA Docket No. FAA-2007-27430, and incorporated by reference in 14 CFR 71.1, is corrected as follows:

§ 71.1 [Amended]

On page 61301, correct the legal description for Springfield, CO, to read as follows:

Paragraph 6005 Class E airspace areas extending upward from 700 feet or more above the surface of the earth.

* * * * *

ANM CO, E5 Springfield, CO [New]

Springfield Municipal Airport, CO

(Lat. 37°27′31″ N., long. 102°37′05″ W.)

TOBE VORTAC

(Lat. 37°15′31″ N., long. 103°36′00″ W.)

That airspace extending upward from 700 feet above the surface within a 7.0-mile radius of Springfield Municipal Airport; that airspace extending upward from 1,200 feet above the surface beginning at TOBE VORTAC, thence north along V-169 to lat. 38°34′00″ N., thence to lat. 38°34′00″ N., long. 102°00′00″ W., thence to lat. 36°30′00″ N., long. 102°00′00″ W., thence west on lat. 36°30′00″ N. to V-81, thence northwest along V-81 to point of beginning.

* * * * *

Issued in Seattle, Washington, on January 3, 2008.
Clark Desing
Manager, System Support Group, Western Service Center.

[FR Doc. E8-846 Filed 1-23-08; 8:45 am]

BILLING CODE 4910-13-P